DEPARTMENT OF TRANSPORTATION

Federal Aviation Administration

Notice of Opportunity for Public Comment on Surplus Property Release at the Hawkins Field Airport, Jackson, Mississippi

AGENCY: Federal Aviation Administration, DOT.

ACTION: Notice of intent to rule on land release request.

SUMMARY: The FAA is considering a request from the Jackson Municipal Airport Authority to waive the requirement that 1.75± acres of airport property located at the Hawkins Field Airport in Jackson, Mississippi, be used for aeronautical purposes.

DATES: Comments must be received on or before April 26, 2019.

ADDRESSES: Comments on this notice may be mailed or delivered in triplicate to the FAA to the following address: Jackson Airports District Office, Attn: Graham Coffelt, Program Manager, 100 West Cross Street, Suite B, Jackson, MS 39208-2307.

In addition, one copy of any comments submitted to the FAA must be mailed or delivered to Jackson Municipal Airport Authority, Attn: Mr. Carl Newman, CEO, 100 International Drive, Jackson, MS 39208 and City of Jackson, Attn: Mr. Chokwe Lumumba, Mayor, 219 South President Street, Jackson, Mississippi 39205.

FOR FURTHER INFORMATION CONTACT: Graham Coffelt, Program Manager, Jackson Airports District Office, 100 West Cross Street, Suite B, Jackson, MS 39208-2307, (601) 664-9886. The land release request may be reviewed in person at this same location.

SUPPLEMENTARY INFORMATION: The FAA is reviewing a request by Jackson Municipal Airport Authority and the City of Jackson to dispose of 1.75± acres of airport property at the Hawkins Field Airport (HKS) under the provisions of Title 49, U.S.C. 47153(c). The property will be purchased by The City of Jackson for non-aeronautical purposes. The property is within the existing airport boundary and is adjacent to other non-aeronautical property along Medgar Evers Boulevard. The net proceeds from the sale of this property will be used to acquire 5.36± acres of land for aeronautical purpose and the protection of navigable airspace.

Any person may inspect the request in person at the FAA office listed above under FOR FURTHER INFORMATION CONTACT.

In addition, any person may, upon request, inspect the request, notice and other documents germane to the request in person at the Jackson Medgar Wiley Evers International Airport (JAN).

Issued in Jackson, Mississippi.
Rans D. Black,
Manager, Jackson Airports District Office Southern Region.

[FR Doc. 2019-05828 Filed 3-26-19; 8:45 am]

BILLING CODE 4910-13-P